DEPARTMENT OF THE INTERIOR

Bureau of Ocean Energy Management

[MMAA104000]

Outer Continental Shelf (OCS), Scientific Committee

AGENCY: Bureau of Ocean Energy Management (BOEM), Interior.

ACTION: Notice of Vacancies and Request for Nominations.

SUMMARY: BOEM is seeking interested and qualified individuals to serve on its OCS Scientific Committee (Committee) during the period of October 15, 2014, through October 14, 2017. The initial 3-year term may be renewable for up to an additional 3 years. The Committee is chartered under the Federal Advisory Committee Act (FACA) to advise the Secretary of the Interior, through the Director of BOEM, on the scientific quality and value for decisionmaking of the OCS Environmental Studies Program (ESP). The ESP, which was authorized by the Outer Continental Shelf Land Act as amended (Section 20), is administered by BOEM and covers a wide range of field and laboratory studies in biology, chemistry, and physical oceanography, as well as studies of the social and economic impacts of OCS energy and marine minerals development.

As a FACA committee, the Committee provides advice from vetted, consensus-oriented, experts that are more focused and technically deeper than public hearings typically can provide. The recognized expertise and diverse associations of the Committee members also help BOEM build partnerships and optimize resources.

The OCS Scientific Committee comprises distinguished scientists in appropriate disciplines of the biological, physical, chemical and social sciences. We will have 15 positions to fill on the Committee by October 14, 2014. These positions exist in the fields of economics, physical oceanography, and biological oceanography/marine biology. We are interested in scientists who have experience in those disciplines, and we also look for geographical balance, drawing members from the contiguous United States, Alaska, and Hawaii.

The selections are based on maintaining disciplinary expertise in all areas of research, as well as geographic balance. Demonstrated knowledge of the scientific issues related to OCS energy and mineral development is essential. Selections are made by the Secretary of the Interior on the basis of these factors.

Ethics Responsibilities of Members: All members will comply with applicable rules and regulations. The Department of the Interior will provide materials to those members appointed as Special Government Employees explaining their ethical obligations with which the members should be familiar. Consistent with the ethics requirements, members will endeavor to avoid any actions that would cause the public to question the integrity of the Committee's operations, activities or advice. The provisions of this paragraph do not affect any other statutory or regulatory ethical obligations to which a member may be subject.

Interested individuals should send a letter of interest and resume within 30 days to: Ms. Phyllis Clark, Bureau of Ocean Energy Management, Division of Environmental Studies, 381 Elden Street, Mail Stop HM-3115, Herndon, Virginia 20170. She may be reached by telephone at (703) 787-1716.

Authority: Federal Advisory Committee Act, Public Law 92-463, 5 U.S.C., Appendix I, and the Office of Management and Budget's Circular A-63, Revised.

Dated: April 14, 2014.
William Y. Brown,
Chief Environmental Officer, Office of Environmental Programs.

[FR Doc. 2014-09277 Filed 4-23-14; 8:45 am]

BILLING CODE 4310-MR-P